ENVIRONMENTAL PROTECTION AGENCY

[EPA-R01-OW-2024-0492; FRL-12374-01-R1]

Notice of Preliminary Designation of Certain Stormwater Discharges in the Commonwealth of Massachusetts and Notice of Availability of Draft Permit Under the National Pollutant Discharge Elimination System of the Clean Water Act

AGENCY: Environmental Protection Agency (EPA).

ACTION: Notice.

SUMMARY: The Regional Administrator of the Environmental Protection Agency Region 1 (“EPA”) is providing notice of two proposed actions today. The first action is the Preliminary Designation of certain stormwater discharges from commercial, industrial, and institutional properties with one acre or more of impervious surface in the Charles, Neponset, and Mystic River watersheds in Massachusetts for regulation under the Clean Water Act's (“CWA”) National Pollutant Discharge Elimination System (“NPDES”) permitting program. Second, the Regional Administrator of the EPA Region 1 is concurrently providing notice of availability of a draft NPDES General Permit (“GP”) for Private Commercial Industrial, and Institutional (“CII”) Stormwater Discharges in the Charles, Mystic, and Neponset River Watersheds in Massachusetts (“Draft CII GP”). The Draft CII GP would regulate the identified stormwater discharges, as it is authorized to do under section 402 of the CWA, by requiring the implementation of Best Management Practices (“BMPs”) and meeting other limitations to meet water quality standards.

DATES: Comments on the Preliminary Designation and the Draft CII GP may be submitted as described in Section I.A of this notice. The public notice period for both the Preliminary Designation and the Draft CII GP will close January 29, 2025. EPA will hold virtual public meetings on January 7, 2025, at 7 p.m. Eastern Time and January 9, 2025, at 7 p.m. Eastern Time. EPA will hold virtual public hearings on January 22, 2025, at 7 p.m. Eastern Time and January 23, 2025, 7 p.m. Eastern Time. Please refer to the SUPPLEMENTARY INFORMATION section for registration instructions for the public meetings and hearings.

ADDRESSES: You may send comments on the Preliminary Designation and/or the Draft CII GP, identified by Docket ID No. EPA-R01-OW-2024-0492, by any of the following methods:

—Federal eRulemaking Portal: https://www.regulations.gov/ (our preferred method). Follow the online instructions for submitting comments.

—Email: R1.RDA@epa.gov, and include “Comments on the Preliminary Designation and/or Draft CII GP” in the subject line.

—Mail: U.S. EPA Region 1, Water Division, Attn: Laura Schifman, 5 Post Office Square, Suite 100, Mail Code 06-4, Boston, Massachusetts 02109-3912. If comments are submitted in hard copy form, please also email a copy to R1.RDA@epa.gov.

FOR FURTHER INFORMATION CONTACT: Laura Schifman, U.S. Environmental Protection Agency Region 1, Water Division, Stormwater Permits Section; telephone number: (617) 918-1015; email address: schifman.laura@epa.gov.

Administrative Record: The Preliminary Designation, the Draft CII GP, and other related documents in the administrative record are on file and may be inspected between 9 a.m. and 5 p.m., Monday through Friday, excluding legal holidays, at the following address: U.S. Environmental Protection Agency, EPA Region 1 Regional Office, Water Division, 5 Post Office Square, Boston, MA. Contact the person listed in the FOR FURTHER INFORMATION CONTACT section to schedule your inspection.

SUPPLEMENTARY INFORMATION:

I. Public Participation

A. Written Comments

Submit your comments as detailed in the ADDRESSES section. Do not submit to EPA any information you consider to be Confidential Business Information (“CBI”), Proprietary Business Information (“PBI”), or other information whose disclosure is restricted by statute. Multimedia submissions (audio, video, etc.) must be accompanied by a written comment. The written comment is considered the official comment and should include discussion of all points you wish to make. EPA will generally not consider comments or comment contents located outside of the primary submission (i.e., on the web, cloud, or other file sharing system).

B. Public Meetings and Public Hearings

EPA will begin pre-registering speakers for the hearings upon publication of this document in the Federal Register. To register to speak at the virtual hearing, please use the online registration form available at https://www.epa.gov/npdes-permits/notice-preliminary-designation-certain-stormwater-discharges-commonwealth. The last day to pre-register to speak at either the January 22 or 23, 2025 hearings is January 16, 2025. On January 17, 2025, EPA will post a general agenda for the hearing that will list pre-registered speakers in approximate order at: https://www.epa.gov/npdes-permits/notice-preliminary-designation-certain-stormwater-discharges-commonwealth.

II. General Information

A. Does this action apply to me?

Entities included in the Preliminary Designation and eligible for coverage under the Draft CII GP Permit include: commercial, industrial, and institutional properties with one acre or more of impervious surface in the Charles, Neponset, and Mystic River watersheds in Massachusetts. Commercial, industrial, and institutional properties are identified by reference to Massachusetts Property Type Classification Codes, identified in Draft CII GP Appendix H. The amount of impervious cover on a parcel can be determined either by verifying EPA's impervious cover data or by determining the amount of impervious cover by a site plan or site survey, GIS analysis, or Google Earth. These methods are described in Draft CII GP Appendix E.

B. Summary and Availability of Preliminary Designation Documents

The Regional Administrator of EPA Region 1 has made a Preliminary Designation of stormwater discharges from certain commercial industrial, and institutional properties with one acre or more of impervious surface in the Charles, Neponset, and Mystic River watersheds in Massachusetts for regulation under the NPDES permitting program pursuant to Clean Water Act sections 301, 402(p)(2)(E), and 402(p)(6) of the Clean Water Act and EPA's implementing regulations at 40 CFR 122.26(a)(9)(i)(C)-(D) and 122.44. Those provisions authorize the Agency to regulate stormwater discharges that contribute to a water quality standard violation or that are a significant contributor of pollutants to waters of the United States, or where controls are needed based on wasteload allocations that are part of total maximum daily loads. This authority is often referred to as “residual designation authority” or RDA. EPA is providing notice of its Preliminary Designation for NPDES permitting of unregulated stormwater discharges from certain commercial industrial, and institutional properties with one acre or more of impervious surface in the Charles, Neponset, and Mystic River watersheds in Massachusetts.

The Preliminary Designation plus supplementary information relating to the Preliminary Designation are available on EPA Region 1's web page at: https://www.epa.gov/npdes-permits/notice-preliminary-designation-certain-stormwater-discharges-commonwealth and at www.regulations.gov by searching for Docket ID No. EPA-R01-OW-2024-0492. This information includes parcel analyses of the Neponset River watershed and the Mystic River watershed, and an updated parcel analysis for the Charles River watershed.

Please refer to EPA's website or this action's docket on www.regulations.gov to review these materials and then follow the directions above in this Notice for submitting any comments. Note that stakeholders may submit comments on the Preliminary Designation to EPA until the end of the comment period and on the EPA NPDES general permit for these discharges. See 40 CFR 124.52(c). In this case, the public notice periods for the Preliminary Designation and Draft CII GP are simultaneous and will run for 90 days from the Federal Register publication of this Notice. Commenters may submit comments on the Preliminary Designation, the Draft CII GP, or on both actions.

C. Summary and Availability of Draft CII GP Documents

The Draft CII General Permit, appendices, and fact sheet are available at: https://www.epa.gov/npdes-permits/notice-preliminary-designation-certain-stormwater-discharges-commonwealth and at www.regulations.gov by searching for Docket ID No. EPA-R01-OW-2024-0492.

This Draft CII General Permit is established pursuant to CWA sections 301, 402(a)(1), 402(p)(2)(E), and 402(p)(6).

1. Technology-Based Requirements

This Draft CII General Permit would be available to authorize certain stormwater discharges, as it is authorized to do under CWA sections 301, 402(a)(1), 402(p)(2)(E) and 402(p)(6), by requiring the implementation of BMPs. The Draft CII Permit regulates Phosphorus, a non-conventional pollutant, as an indicator parameter for all regulated pollutants. As provided in section 402(a)(1) of the CWA, EPA established Technology-Based Effluent Limitations (TBELs) in this Draft Permit utilizing Best Professional Judgment (BPJ) to meet the “best available technology economically achievable” (BAT), “best conventional pollutant control technology” (BCT), and “best practicable control technology currently available” (BPT) standards described in section 304(b) of the CWA. TBELs in this Draft Permit are expressed as requirements for implementation of effective best management practices (BMPs). 40 CFR 122.44(k). Section 2.1.1 of the Draft CII GP requires all Permittees to develop and implement Stormwater Pollution Control Plans (SPCPs). The minimum BMPs specified in this CII GP represent common practices that can be implemented by most CII facilities. Dischargers have flexibility in designing their SPCP in accordance with Section 2.2 of this Draft CII GP.

2. Water-Quality Based Requirements

Based on its scientific and technical judgment, EPA has determined that the following reductions of Phosphorus, as an indicator pollutant, from CII sites are necessary to meet water quality standards: Charles River watershed, 65%; Mystic River watershed, 62%; Neponset River watershed, 60%. Permittees' development and implementation of SPCPs constitutes compliance with the Water-Quality Based Effluent Limitations (WQBELs) contained in this Draft CII GP, including the aforementioned reductions of Phosphorus.

D. Provisions on Which EPA Is Soliciting Comment

While EPA encourages the public to review and comment on all provisions in the Preliminary Determination and the Draft CII GP, EPA has included in the body of the Draft CII GP Fact Sheet several proposed provisions on which EPA specifically requests feedback. The following list summarizes these specific requests for comment, and where they are included in the fact sheet. EPA notes that these are only summaries of the requests for comment. The Agency recommends that the public see the specific wording of each comment request within the body of the fact sheet.

1. Multifamily housing/tax codes (Fact Sheet § 1.5): EPA is seeking comment on whether to include Multi-Family Residential Properties in the final designation and in the final CII GP.

2. Compliance schedule (Fact Sheet § 5.1.1): EPA is seeking comment on whether the proposed compliance schedule is appropriate.

3. Multiple non-contiguous properties (Fact Sheet § 1.4): EPA is seeking comment on how the permitting process should work for owners with multiple non-contiguous properties that are subject to the CII GP.

4. Owner-operator (Fact Sheet § 1.4): EPA is seeking comment on whether EPA should regulate the operator with control over a site instead of the owner, including sites where multiple operators may be tenants of a site (e.g., a shopping plaza with one owner and multiple tenants).

5. Contiguous properties (Fact Sheet § 1.4): EPA is seeking comment on its regulation of contiguous sites, which reflect EPAs interest in consolidating, to the greatest extent possible, responsibility for permit compliance.

6. Historic Properties (Fact Sheet § 9.3): EPA is seeking comment on the Draft CII GP's potential impact on historic properties.

E. Procedures for Reaching a Final Designation and Final Permit Decision

After the comment period closes, EPA intends to issue a final permit and final RDA determination. EPA will consider all significant comments and make appropriate changes before issuing this permit. EPA's responses to public comments received will be included in the docket as part of the final permit issuance. Once the final permit becomes effective, eligible dischargers may seek authorization.

Authority: This action is being taken pursuant to Clean Water Act sections 301, 402(a)(1), 402(p)(2)(E), and 402(p)(6).

Dated: October 24, 2024.
David W. Cash,
Administrator, EPA Region 1, Boston, MA.

[FR Doc. 2024-25219 Filed 10-30-24; 8:45 am]

BILLING CODE 6560-50-P